SMALL BUSINESS ADMINISTRATION

[Declaration of Disaster #359]

Commonwealth of Virginia (Amendment #2)

In accordance with a notice received from the Department of Homeland Security—Federal Emergency Management Agency, effective June 29, 2004, the above numbered declaration is hereby amended to include Buchanan County as a disaster area due to damages caused by severe storms, tornadoes, and flooding occurring on May 24, 2004, and continuing through June 26, 2004. In addition, applications for economic injury loans from small businesses located in the contiguous county of Pike in the Commonwealth of Kentucky; and Mingo County in the State of West Virginia may be filed until the specified date at the previously designated location. All other counties contiguous to the above named primary counties have been previously declared.

All other information remains the same, i.e., the deadline for filing applications for physical damages is August 16, 2004, and for economic injury the deadline is March 15, 2005.

(Catalog of Federal Domestic Assistance Program Nos. 59002 and 59008).

Dated: July 1, 2004.
Herbert L. Mitchell,
Associate Administrator for Disaster Assistance.

[FR Doc. 04-15474 Filed 7-7-04; 8:45 am]

BILLING CODE 8025-01-P